DEPARTMENT OF TRANSPORTATION

Federal Aviation Administration

14 CFR Part 71

[Docket No. FAA-2008-1073; Airspace Docket No. 08-AEA-28]

Amendment to Class E Airspace; Summersville, WV

AGENCY: Federal Aviation Administration (FAA), DOT.

ACTION: Final rule; confirmation of effective date, technical amendment.

SUMMARY: This action confirms the effective date of a final rule published in the Federal Register on December 15, 2008, amending Class E airspace at Summersville, WV (73 FR 75938). This action also corrects the misspelling of the airport name and town from Summerville to Summersville.

DATES: Effective Date: 0901 UTC, April 20, 2009. The Director of the Federal Register approves this incorporation by reference action under Title 1, Code of Federal Regulations, part 51, subject to the annual revision of FAA Order 7400.9 and publication of conforming amendments.

FOR FURTHER INFORMATION CONTACT: Melinda Giddens, Operations Support Group, Federal Aviation Administration, P.O. Box 20636, Atlanta, Georgia 30320; Telephone (404) 305-5610, Fax 404-305-5572.

SUPPLEMENTARY INFORMATION:

Confirmation of Effective Date

The FAA published this direct final rule with a request for comments in the Federal Register on December 15 (73 FR 75938) amending Class E airspace to provide adequate controlled Class E airspace for aircraft executing Instrument Flight Rule operations at Summersville, WV. The FAA uses the direct final rulemaking procedure for a non-controversial rule where the FAA believes that there will be no adverse public comment. This direct final rule advised the public that no adverse comments were anticipated, and that unless a written adverse comment, or a written notice of intent to submit such an adverse comment, were received within the comment period, the regulation would become effective on March 12, 2009. No adverse comments were received, and thus this notice confirms that effective date.

Technical Amendment

After publication, it was observed that the airport name and town were misspelled. Therefore, in the Federal Register Docket No. FAA-2008-1073; Airspace Docket No. 08-AEA-28, published on December 15, 2008 (73 FR 75938), change the following: on page 75938, columns 1 and 2, and page 75939, columns 1 and 2, change referenced spelling from Summerville Airport and Summerville, WV, to “Summersville Airport and Summersville, WV.”

* * * * *

Issued in College Park, Georgia, on April 1, 2009.
Myron A. Jenkins,
Acting Manager, Operations Support Group, Eastern Service Center, Air Traffic Organization.

[FR Doc. E9-8834 Filed 4-17-09; 8:45 am]

BILLING CODE 4910-13-P